FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 1519F.

Name: J. Astengo Co.

Address: 8062 Clover Way, Buena Park, CA 90620.

Date Revoked: November 30, 2010.

Reason: Surrendered license voluntarily.

License Number: 8952N.

Name: Ace Consolidators Corp.

Address: 147-19 Springfield Lane, Suite D, Jamaica, NY 11413.

Date Revoked: November 10, 2010.

Reason: Failed to maintain a valid bond.

License Number: 14036N.

Name: Joong Ho Kim dba Total Airfreight Systems.

Address: 19401 S. Vermont Avenue, Suite J-100, Torrance, CA 90502.

Date Revoked: November 17, 2010.

Reason: Failed to maintain valid bond.

License Number: 016090F.

Name: Universal Relocation Systems, Inc.

Address: 24 Commerce Road, Unit Q, Fairfield, NJ 07004.

Date Revoked: November 1, 2010.

Reason: Surrendered license voluntarily.

License Number: 017747N.

Name: Tomcar Investment USA, Inc.

Address: 8369 North Coral Circle, N. Lauderdale, FL 33068.

Date Revoked: November 6, 2010.

Reason: Failed to maintain a valid bond.

License Number: 018456N.

Name: Trico Forwarding-USA, Inc.

Address: 172 East Manville Street, Compton, CA 90220.

Date Revoked: November 1, 2010.

Reason: Surrendered license voluntarily.

License Number: 018487N.

Name: Quality One International Shipping, Inc.

Address: 3913 Dyre Avenue, Bronx, NY 10466.

Date Revoked: November 7, 2010.

Reason: Failed to maintain a valid bond.

License Number: 019871NF.

Name: WLG (USA) LLC dba Kay O'Neill (USA) LLC dba WLG Line.

Address: 920 East Algonquin Road, Suite 120, Schaumburg, IL 60173.

Date Revoked: August 31, 2010.

Reason: Surrendered license voluntarily.

License Number: 020264F.

Name: Empire Shipping Co. Inc.

Address: 100 East Peddie Street, Newark, NJ 07114.

Date Revoked: November 6, 2010.

Reason: Failed to maintain a valid bond.

License Number: 020667F.

Name: Atlas Logistics (U.S.A.), Inc.

Address: 2401 E. Atlantic Blvd., Suite 310, Pompano Beach, FL 33062.

Date Revoked: November 18, 2010.

Reason: Failed to maintain a valid bond.

License Number: 020883NF.

Name: Zai Cargo, Inc. dba Zai Ocean Services dba Zai Container Line dba Zai Cargo, Inc.

Address: 6324 NW 97th Avenue, Doral, FL 33178.

Date Revoked: November 19, 2010.

Reason: Failed to maintain valid bonds.

License Number: 021351F.

Name: Cil Forwarding, LLC.

Address: 1420 Vantage Way, Suite 112, Jacksonville, FL 32218.

Date Revoked: November 18, 2010.

Reason: Failed to maintain a valid bond.

License Number: 021407NF.

Name: Smartex Corp. dba Smartex.

Address: 5055 NW 74th Avenue, Suite 5, Miami, FL 33166.

Date Revoked: November 18, 2010.

Reason: Failed to maintain valid bonds.

License Number: 021885F.

Name: SeaForward Logistics, LLC.

Address: 2769 S. Oakland Circle West, Aurora, CO 80014.

Date Revoked: November 30, 2010.

Reason: Surrendered license voluntarily.

License Number: 022244F.

Name: Golden Freight, Inc. dba Saigon Express.

Address: 510 Parrott Street, Suite 2, San Jose, CA 95112.

Date Revoked: November 15, 2010.

Reason: Failed to maintain a valid bond.

Sandra L. Kusumoto,
Director, Bureau of Certification and Licensing.

[FR Doc. 2010-32171 Filed 12-21-10; 8:45 am]

BILLING CODE 6730-01-P